NUCLEAR REGULATORY COMMISSION

[NRC-2017-0171]

Evaluating Deviations and Reporting Defects and Noncompliance

AGENCY: Nuclear Regulatory Commission.

ACTION: Regulatory guide; issuance.

SUMMARY: The U.S. Nuclear Regulatory Commission (NRC) is issuing Revision 0 to Regulatory Guide (RG) 1.234, “Evaluating Deviations and Reporting Defects and Noncompliance Under 10 CFR Part 21.” This RG describes methods that the staff of the U.S. Nuclear Regulatory Commission (NRC) considers acceptable for complying with the provisions of the regulations.

DATES: Revision 0 to RG 1.234 is available on April 9, 2018.

ADDRESSES: Please refer to Docket ID NRC-2017-0171 when contacting the NRC about the availability of information regarding this document. You may obtain publicly-available information related to this document using any of the following methods:

• Federal Rulemaking Website: Go to http://www.regulations.gov and search for Docket ID NRC-2017-0171. Address questions about NRC dockets to Jennifer Borges; telephone: 301-415-3463; email: Jennifer.Borges@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Paul Prescott, Office of New Reactors, telephone: 301-415-3026, email: Paul.Prescott@nrc.gov and Stephen Burton, Office of Nuclear Regulatory Research, telephone: 301-415-7000, email: Stephen.Burton@nrc.gov. Both are staff of the U.S. Nuclear Regulatory Commission, Washington, DC 20555-0001.

SUPPLEMENTARY INFORMATION:

I. Discussion

The NRC is issuing a new guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 0 of RG 1.234 was issued with a temporary identification of Draft Regulatory Guide, DG-1291. This RG describes methods that the NRC staff considers acceptable for complying with the provisions of part 21 of title 10 of the Code of Federal Regulations (10 CFR), Reporting of Defects and Noncompliance.

II. Additional Information

The NRC published a notice of the availability of DG-1291 in the Federal Register on August 4, 2017 (Volume 82 FR page 36457) for a 60-day public comment period. The public comment period closed on October 3, 2017. Public comments on DG-1291 and the staff responses to the public comments are available under ADAMS under Accession No. ML17338A074.

III. Congressional Review Act

This RG is a rule as defined in the Congressional Review Act (5 U.S.C. 801-808). However, the Office of Management and Budget has not found it to be a major rule as defined in the Congressional Review Act.

IV. Backfitting and Issue Finality

This RG approves a method for evaluating and reporting defects under 10 CFR part 21. Issuance of this RG would not constitute backfitting as defined in 10 CFR 50.109 (the Backfit Rule) and would not otherwise be inconsistent with the issue finality provisions in 10 CFR part 52. As discussed in the “Implementation” section of this RG, the NRC has no current intention to impose this guide, if finalized, on holders of current operating licenses or combined licenses.

Dated at Rockville, Maryland, this 3rd day of April, 2018.
For the Nuclear Regulatory Commission.
Thomas H. Boyce,
Chief, Regulatory Guidance and Generic Issues Branch, Division of Engineering, Office of Nuclear Regulatory Research.

[FR Doc. 2018-07118 Filed 4-6-18; 8:45 am]

BILLING CODE 7590-01-P